DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of February 11, 2013 through February 19, 2013.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
82,035 | Georgia Pacific LLC, dba Duluth Hardboard Plant, Specialty Mfg. Division, Koch Industries | Duluth, MN | October 2, 2011.
82,165 | Interstate Brands Corporation (IBC), Hostess Brands, Inc | Wyoming, MI | November 19, 2011.
82,165A | Interstate Brands Corporation (IBC), Hostess Brands, Inc | Montgomery, AL | November 19, 2011.
82,165AA | Interstate Brands Corporation (IBC), Hostess Brands, Inc | Rochester, NH | November 19, 2011.
82,165B | Interstate Brands Corporation (IBC), Hostess Brands, Inc | Anchorage, AK | November 19, 2011.
82,165BB | Interstate Brands Corporation (IBC), Hostess Brands, Inc | Somerset, NJ | November 19, 2011.
82,165C | Interstate Brands Corporation (IBC), Hostess Brands, Inc | Payson, AZ | November 19, 2011.
82,165CC | Interstate Brands Corporation (IBC), Hostess Brands, Inc | Black River, NY | November 19, 2011.
82,165D | Interstate Brands Corporation (IBC), Hostess Brands, Inc | Paragould, AR | November 19, 2011.
82,165DD | Interstate Brands Corporation (IBC), Hostess Brands, Inc | Wilmington, NC | November 19, 2011.
82,165E | Interstate Brands Corporation (IBC), Hostess Brands, Inc | Auburn, CA | November 19, 2011.
82,165EE | Interstate Brands Corporation (IBC), Hostess Brands, Inc | Bismarck, ND | November 19, 2011.
82,165F | Interstate Brands Corporation (IBC), Hostess Brands, Inc., Professional Drivers of Georgia, Inc dba Prodrivers | Ft. Morgan, CO | November 19, 2011.
82,165FF | Interstate Brands Corporation (IBC), Hostess Brands, Inc | Geneva, OH | November 19, 2011.
82,165G | Interstate Brands Corporation (IBC), Hostess Brands, Inc | Montville, CT | November 19, 2011.
82,165GG | Interstate Brands Corporation (IBC), Hostess Brands, Inc | Seminole, OK | November 19, 2011.
82,165H | Interstate Brands Corporation (IBC), Hostess Brands, Inc | Cheswold, DE | November 19, 2011.
82,165HH | Interstate Brands Corporation (IBC), Hostess Brands, Inc | La Grande, OR | November 19, 2011.
82,165I | Interstate Brands Corporation (IBC), Hostess Brands, Inc | Madison, FL | November 19, 2011.
82,165II | Interstate Brands Corporation (IBC), Hostess Brands, Inc. Randstad Professional US LP (Accounts International) | Berwick, PA | November 19, 2011.
82,165J | Interstate Brands Corporation (IBC), Hostess Brands, Inc | Waycross, GA | November 19, 2011.
82,165JJ | Interstate Brands Corporation (IBC), Hostess Brands, Inc | Warwick, RI | November 19, 2011.
82,165K | Interstate Brands Corporation (IBC), Hostess Brands, Inc | Bellevue, ID | November 19, 2011.
82,165KK | Interstate Brands Corporation (IBC), Hostess Brands, Inc | Rock Hill, SC | November 19, 2011.
82,165L | Interstate Brands Corporation (IBC), Hostess Brands, Inc., Stivers Temporary Personnel | Oswego, IL | November 19, 2011.
82,165LL | Interstate Brands Corporation (IBC), Hostess Brands, Inc | Sioux Falls, SD | November 19, 2011.
82,165M | Interstate Brands Corporation (IBC), Hostess Brands, Inc | Rushville, IN | November 19, 2011.
82,165MM | Interstate Brands Corporation (IBC), Hostess Brands, Inc., Stinson Industrial Maintenance | Knoxville, TN | November 19, 2011.
82,165N | Interstate Brands Corporation (IBC), Hostess Brands, Inc | Waterloo, IA | November 19, 2011.
82,165NN | Interstate Brands Corporation (IBC), Hostess Brands, Inc., Insource Group and Accenture LLP | Houston, TX | November 19, 2011.
82,165O | Interstate Brands Corporation (IBC), Hostess Brands, Inc., Anytime Labor KC Metro, LLC, Arnold Group | Salina, KS | November 19, 2011.
82,165OO | Interstate Brands Corporation (IBC), Hostess Brands, Inc | Tremonton, UT | November 19, 2011.
82,165P | Interstate Brands Corporation (IBC), Hostess Brands, Inc., Professional Drivers of Georgia, Inc. dba Prodrivers | Danville, KY | November 19, 2011.
82,165PP | Interstate Brands Corporation (IBC), Hostess Brands, Inc | Brattleboro, VT | November 19, 2011.
82,165Q | Interstate Brands Corporation (IBC), Hostess Brands, Inc | Hammond, LA | November 19, 2011.
82,165QQ | Interstate Brands Corporation (IBC), Hostess Brands, Inc | Rustburg, VA | November 19, 2011.
82,165R | Interstate Brands Corporation (IBC), Hostess Brands, Inc | Portland, ME | November 19, 2011.
82,165RR | Interstate Brands Corporation (IBC), Hostess Brands, Inc | Moses Lake, WA | November 19, 2011.
82,165S | Interstate Brands Corporation (IBC), Hostess Brands, Inc | Rockville, MD | November 19, 2011.
82,165SS | Interstate Brands Corporation (IBC), Hostess Brands, Inc | Wheeling, WV | November 19, 2011.
82,165T | Interstate Brands Corporation (IBC), Hostess Brands, Inc | Fitchburg, MA | November 19, 2011.
82,165TT | Interstate Brands Corporation (IBC), Hostess Brands, Inc | Oshkosh, WI | November 19, 2011.
82,165U | Interstate Brands Corporation (IBC), Hostess Brands, Inc | Mankato, MN | November 19, 2011.
82,165UU | Interstate Brands Corporation (IBC), Hostess Brands, Inc | Rock Springs, WY | November 19, 2011.
82,165V | Interstate Brands Corporation (IBC), Hostess Brands, Inc | Moselle, MS | November 19, 2011.
82,165W | Interstate Brands Corporation (IBC), Hostess Brands, Inc., Great Plains Technical Services, Ridgway's LLC, etc | Caruthersville, MO | November 19, 2011.
82,165X | Interstate Brands Corporation (IBC), Hostess Brands, Inc., Bookkeeping by Design | Livingston, MT | November 19, 2011.
82,165Y | Interstate Brands Corporation (IBC), Hostess Brands, Inc., Bookkeeping by Design | Omaha, NE | November 19, 2011.
82,165Z | Interstate Brands Corporation (IBC), Hostess Brands, Inc | Elko, NV | November 19, 2011.

The following certifications have been issued. The requirements of Section 222(a)(2)(B) (shift in production or services) of the Trade Act have been met.

TA-W No. | Subject firm | Location | Impact date
82,166 | Technicolor, Inc., Creative Services Division, Apple One, Select Staffing | Glendale, CA | November 20, 2011.
82,237 | State Street Corporation, Information Technology Group, 607 Boylston Street | Boston, MA | November 16, 2011.
82,237A | State Street Corporation, Information Technology Group, 100 Huntington Avenue | Boston, MA | November 16, 2011.
82,237B | State Street Corporation, Information Technology Group, 100 Summer Street | Boston, MA | November 16, 2011.
82,237C | State Street Corporation, Information Technology Group, 200 Clarendon Street | Boston, MA | November 16, 2011.
82,237D | State Street Corporation, Information Technology Group, 2 Avenue De LaFayette | Boston, MA | November 16, 2011.
82,237E | State Street Corporation, Information Technology Group, 800 Boylston Street | Boston, MA | November 16, 2011.
82,237F | State Street Corporation, Information Technology Group, One Lincoln Street | Boston, MA | November 16, 2011.
82,237G | State Street Corporation, Information Technology Group, 8 Centennial Drive | Grafton, MA | November 16, 2011.
82,237H | State Street Corporation, Information Technology Group, 1776 Heritage Drive | North Quincy, MA | November 16, 2011.
82,237I | State Street Corporation, Information Technology Group, 200 Newport Avenue | Quincy, MA | November 16, 2011.
82,237J | State Street Corporation, Information Technology Group, 1200 Crown Colony Drive | Quincy, MA | November 16, 2011.
82,242 | Burroughs Inc., Pinnacle Staffing and Snelling | Plymouth, MI | January 20, 2013.
82,326 | YP Western Directory LLC, Publishing Operations Group, YP Subsidiary Holdings LLC, Zero Chaos | San Francisco, CA | January 8, 2012.
82,356 | Stowe Woodward, LLC, d/b/a Mount Hope, Ajilon Professional Staffing | Charlotte, NC | January 18, 2012.
82,391 | Bacova Guild, Ltd., Ronile Inc., inc., Manpower | Covington, VA | January 30, 2012.
82,392 | ABB Inc., PPHV Division | Mount Pleasant, PA | July 3, 2012.
82,392A | Leased Workers from HEG Company and Beeline, ABB Inc., PPHV Division | Mount Pleasant, PA | January 30, 2012.
82,393 | Royal Appliance Mfg. Co., RMP Personnel, Inc | El Paso, TX | January 29, 2012.
82,395 | A.E. Petsche Company, Randstad and Synergy Services Corporation | Arlington, TX | January 29, 2012.
82,403 | City Shirt Company, Elbeco Incorporated | Frackville, PA | January 31, 2012.
82,404 | NGN—New Generation Network, Inc., NGN—New Generation Network GMBH | Portland, ME | January 31, 2012.
82,412 | Buth-Na-Bodhaige, Inc., d/b/a/The Body Shop, Aerotek | Wake Forest, NC | January 17, 2012.

The following certifications have been issued. The requirements of Section 222(c) (supplier to a firm whose workers are certified eligible to apply for TAA) of the Trade Act have been met.

TA-W No. | Subject firm | Location | Impact date
82,319 | Art Print Company, OneSource Staffing Solutions | Taylor, PA | January 4, 2012.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W No. | Subject firm | Location | Impact date
82,318 | San Francisco Shopping Centre Associates, LP, Kiosk Leasing Department | San Francisco, CA

The investigation revealed that the criteria under paragraphs(a)(2)(A) (increased imports) and (a)(2)(B) (shift in production or services to a foreign country) of section 222 have not been met.

TA-W No. | Subject firm | Location | Impact date
81,668 | Vertis Inc., Insert Advertising Division, Ethan Allen Staffing and Manpower Incorporated | Saugerties, NY
82,296 | Lattice Semiconductor Corporation, U.S. Field Sales throughout the US reporting to Hillsboro, Oregon | Hillsboro, OR
82,311 | SFI Holding, LLC, Personnel Services Unlimited, Inc | Forest City, NC
82,335 | Wellpoint, Inc., Anthem Blue Cross & Blue Shield, Individual Sales—Captive Agents | Worthington, OH
82,347 | Performance Motorsports, Inc., A subsidiary of Dover Corporation | Huntington Beach, CA

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
82,193 | Green Innovation and Technology, Inc | South Holland, IL
82,362 | Hewlett-Packard Company | Corvallis, OR
82,450 | HP Software | Palo Alto, CA
82,451 | Hewlett-Packard Enterprise Services | Palo Alto, CA
82,452 | HP Global Functions | Palo Alto, CA

The following determinations terminating investigations were issued because the petitioning groups of workers are covered by active certifications. Consequently, further investigation in these cases would serve no purpose since the petitioning group of workers cannot be covered by more than one certification at a time.

TA-W No. | Subject firm | Location | Impact date
82,167 | Interstate Brands Corporation (IBC), Hostess Brands, Inc | Seattle, WA
82,181 | Interstate Brands Corporation (IBC), Hostess Brands, Inc | Salem, OR
82,207 | Interstate Brands Corporation (IBC), Hostess Brands, Inc | Operating Throughout the State of Nevada, NV
82,208 | Interstate Brands Corporation (IBC), Hostess Brands, Inc | Boise, ID
82,222 | Interstate Brands Corporation (IBC), Bostess Brands, Inc | Operating Throughout the State Maine, ME
82,226 | Interstate Brands Corporation (IBC), Hostess Brands, Inc | La Grande, OR
82,228 | Interstate Brands Corporation (IBC), Hostess Brands, Inc | Operating Throughout the State of Connecticut, CT
82,233 | Interstate Brands Corporation (IBC), Hostess Brands, Inc | Cheswick, PA
82,234 | Interstate Brands Corporation (IBC), Hostess Brands, Inc., Los Angeles—Hostess Plant | Los Angeles, CA
82,248 | Interstate Brands Corporation (IBC), Hostess Brands, Inc | Lafayette, IN
82,255 | Interstate Brands Corporation (IBC), Hostess Brands, Inc | Northwood, OH
82,256 | Verizon Business Networks Services, Inc., Senior Coordinator-Oder Management, Voice Over Internet Protocol | San Antonio, TX
82,265 | State Street Corporation, Information Technology Group | Boston, MA
82,265A | State Street Corporation, Information Technology Group | Quincy, MA
82,267 | Interstate Brands Corporation (IBC), Hostess Brands, Inc., Tulsa -Wonder/Hostess Plant | Tulsa, OK
82,278 | Interstate Brands Corporation (IBC), Hostess Brands, Inc | Operating Throughout the State of Illinois, IL
82,298 | Interstate Brands Corporation, Hostess Brands, Inc | Redding, CA
82,314 | Interstate Brands Corporation (IBC), Hostess Brands | Defiance, OH
82,327 | State Street Corporation, Information Technology Group | North Quincy, MA
82,329 | Interstate Brands Corporation (IBC), Hostess Brands, Inc | Operating Throughout the State of New York, NY
82,341 | Interstate Brands Corporation (IBC), Hostess Brands, Inc | West Virginia, WV
82,366 | Interstate Brands Corporation (IBC), Hostess Brands | Mansfield, OH
82,372 | Interstate Brands Corporation (IBC), Hostess Brands, Inc | Wichita, KS
82,397 | Interstate Brands Corporation (IBC), Hostess Brands, Inc | Erie, PA

The following determinations terminating investigations were issued because the petitions are the subject of ongoing investigations under petitions filed earlier covering the same petitioners.

TA-W No. | Subject firm | Location | Impact date
82,358 | YP Holdings LLC | San Francisco, CA

I hereby certify that the aforementioned determinations were issued during the period of February 11, 2013 through February 19, 2013. These determinations are available on the Department's Web site tradeact/taa/taa search form.cfm under the searchable listing of determinations or by calling the Office of Trade Adjustment Assistance toll free at 888-365-6822.

Dated: February 19, 2013.
Michael W. Jaffe,
Certifying Officer, Office of Trade Adjustment Assistance.

[FR Doc. 2013-04258 Filed 2-22-13; 8:45 am]

BILLING CODE 4510-FN-P